DEPARTMENT OF THE INTERIOR

Minerals Management Service

Gulf of Mexico, Outer Continental Shelf, Central Planning Area, Oil and Gas Lease Sale 213 (2010) Environmental Assessment

AGENCY: Minerals Management Service, Interior.

ACTION: Notice of availability of an environmental assessment.

SUMMARY: The Minerals Management Service (MMS) is issuing this notice to advise the public, pursuant to the National Environmental Policy Act of 1969 (NEPA), as amended, 42 U.S.C. 4321 et seq., that MMS has prepared an environmental assessment (EA) for proposed Outer Continental Shelf (OCS) oil and gas Lease Sale 213 in the Central Gulf of Mexico (GOM) Planning Area (Lease Sale 213) scheduled for March 2010. The preparation of this EA is an important step in the decision process for Lease Sale 213. The proposal for Lease Sale 213 was identified by the Call for Information and Nominations published in the Federal Register on October 9, 2008, and was analyzed in the Gulf of Mexico OCS Oil and Gas Lease Sales: 2007-2012; Western Planning Area Sales 204, 207, 210, 215, and 218; Central Planning Area Sales 205, 206, 208, 213, 216, and 222—Final Environmental Impact Statement; Volumes I and II (Multisale EIS, OCS EIS/EA MMS 2007-018), and in the Gulf of Mexico OCS Oil and Gas Lease Sales: 2009-2012; Central Planning Area Sales 208, 213, 216, and 222; Western Planning Area Sales 210, 215, and 218—Final Supplemental Environmental Impact Statement (Supplemental EIS, OCS EIS/EA MMS 2008-041).

This EA for proposed Lease Sale 213 analyzed the potential environmental effects of the proposed lease sale and its alternatives (excluding the unleased blocks near biologically sensitive topographic features; excluding the unleased blocks within 15 miles of the Baldwin County, Alabama, coast; and no action) based on any new information regarding potential impacts and issues that were not available at the time the Supplemental EIS was prepared. This EA for proposed Lease Sale 213 also examined the potential environmental effects of the addition of two small areas within the Central Planning Area (CPA), located greater than 100 miles from the coasts of Alabama and Florida, that were not previously examined by the Supplemental EIS (OCS EIS/EA MMS 2008-041) or Multisale EIS (OCS EIS/EA MMS 2007-018) but that were included in the OCS Oil and Gas Leasing Program: 2007-2012 (5-Year Program).

No new significant impacts were identified for proposed Lease Sale 213 that were not already assessed in the Multisale EIS or Supplemental EIS. As a result, MMS determined that an additional Supplemental EIS is not required and prepared a Finding of No New Significant Impact (FONNSI).

FOR FURTHER INFORMATION CONTACT: Mr. Bruce Baird, Minerals Management Service, Gulf of Mexico OCS Region, 1201 Elmwood Park Boulevard, MS 5410, New Orleans, Louisiana 70123-2394. You may also contact Mr. Baird by telephone at (504) 731-1489.

SUPPLEMENTARY INFORMATION: In April 2007, MMS published a Multisale EIS that addressed 11 proposed Federal actions that would offer for lease areas on the GOM OCS that may contain economically recoverable oil and gas resources. Federal regulations allow for several related or similar proposals to be analyzed in one EIS (40 CFR 1502.4). Since each proposed lease sale and its projected activities are very similar each year for each planning area, a single EIS was prepared for the 11 Western Planning Area (WPA) and CPA lease sales scheduled in the proposed 5-Year Program. The Multisale EIS (OCS EIS/EA MMS 2007-018) addressed WPA Sale 204 in 2007, Sale 207 in 2008, Sale 210 in 2009, Sale 215 in 2010, and Sale 218 in 2011; and CPA Sale 205 in 2007, Sale 206 in 2008, Sale 208 in 2009, Sale 213 in 2010, Sale 216 in 2011, and Sale 222 in 2012. However, the Gulf of Mexico Energy Security Act of 2006 repealed the Congressional moratorium on approximately 5.8 million acres located in the southeastern part of the CPA. Therefore, it was necessary to prepare additional NEPA documentation to address the MMS proposal to expand the CPA by the 5.8 million acre area. A Supplemental EIS was prepared for the remaining seven CPA and WPA lease sales scheduled in the 5-Year Program. In September 2008, MMS published a Supplemental EIS (OCS EIS/EA MMS 2008-041) that addressed seven proposed Federal actions that would offer for lease areas on the GOM OCS that may contain economically recoverable oil and gas resources. An additional NEPA review (an EA) was conducted for proposed Lease Sale 213 to address any new information relevant to the proposed lease sale. Additional NEPA reviews will also be conducted prior to decisions on each of the four subsequent proposed lease sales. The purpose of these EAs is to determine whether to prepare a FONNSI or a Supplemental EIS. For each proposed lease sale, MMS prepares a Consistency Determination (CD) to determine whether the lease sale is consistent with each affected state's federally approved, coastal zone management program. Finally, MMS solicits comments via the Proposed Notice of Sale (NOS) from the governors of the affected states on the size, timing, and location of the lease sale. The tentative schedule for the prelease decision process for Lease Sale 213 is as follows: CDs sent to affected states, October 2009; Proposed NOS sent to governors of the affected states, November 2009; Final NOS published in the Federal Register, February 2010; and Lease Sale 213, March 2010.

Public Comments: Within 30 days of this Notice's publication, interested parties are requested to send comments on this EA/FONNSI. Comments may be submitted in one of the following two ways:

1. In written form enclosed in an envelope labeled “Comments on CPA Lease Sale 213 EA” and mailed (or hand carried) to the Regional Supervisor, Leasing and Environment (MS 5410), Minerals Management Service, Gulf of Mexico OCS Region, 1201 Elmwood Park Boulevard, New Orleans, Louisiana 70123-2394.

2. Electronically to the MMS e-mail address: environment@mms.gov.

All comments received will be considered in the decisionmaking process for proposed Lease Sale 213.

EA Availablity: To obtain a copy of this EA, you may contact the Minerals Management Service, Gulf of Mexico OCS Region, Attention: Public Information Office (MS 5034), 1201 Elmwood Park Boulevard, Room 114, New Orleans, Louisiana 70123-2394 (1-800-200-GULF). You may also view this EA on the MMS Web site at http://www.gomr.mms.gov/homepg/regulate/environ/nepa/nepaprocess.html.

Dated: October 30, 2009.
Chris C. Oynes,
Associate Director for Offshore Energy and Minerals Management.

[FR Doc. E9-27488 Filed 11-13-09; 8:45 am]

BILLING CODE 4310-MR-P